DEPARTMENT OF TRANSPORTATION

Maritime Administration

[Docket No. MARAD-2019-0093]

Deepwater Port License Application: Texas GulfLink LLC

AGENCY: Maritime Administration, U.S. Department of Transportation.

ACTION: Notice of availability, Notice of virtual public meeting, Request for comments.

SUMMARY: The Maritime Administration (MARAD) and the U.S. Coast Guard (USCG) announce the availability of the Draft Environmental Impact Statement (DEIS) for the Texas GulfLink LLC (GulfLink) deepwater port license application for the export of crude oil from the United States to nations abroad and the re-opening of the public comment period for the DEIS. The DEIS is being reissued to ensure the meaningful engagement of identified Spanish-speaking Limited English Proficient (LEP) persons in the environmental impact review process. Additionally, MARAD and USCG announce a virtual public meeting and virtual open house for the DEIS.

DATES: To ensure comments on the DEIS will be considered, materials submitted in response to this request for comments must be submitted to the www.regulations.gov website or the Federal Docket Management Facility as detailed in the ADDRESSES section below no later than 45 days after the Environmental Protection Agency (EPA) publishes its notice of availability of the Draft Environmental Impact Statement for GulfLink Deepwater Port License Application MARAD-2019-0093 in the Federal Register.

MARAD and USCG will hold one virtual public meeting in connection with the reissuance of the GulfLink DEIS. The public meeting will be held virtually on October 14, 2021, from 6:00 p.m. to 8:00 p.m. Central Time. The virtual public meeting may end later than the stated time, depending on the number of persons who wish to make a comment on the record.

Anyone that is interested in attending the virtual public meeting or speaking during the virtual public meeting must register. Registration information is provided in the Public Meeting and Open House and Registration sections of this Notice.

ADDRESSES: The virtual public meeting will be held remotely due to the nationwide impacts of the existing public health emergency under Section 319 of the Public Health Service Act in response to Coronavirus Disease 2019 (COVID-19). Further, the President's declaration of a national emergency due to the COVID-19 outbreak, and state and local actions in response to COVID-19, have impacted the public's ability to assemble and provide feedback on the GulfLink deepwater port license application through in-person public meetings.

The GulfLink deepwater port license application, comments, supporting information and the DEIS are available for viewing at the Regulations.gov website: http://www.regulations.gov under docket number MARAD-2019-0093. The Final EIS (FEIS), when published, will be announced and available at this site as well.

The public docket for the GulfLink deepwater port license application is maintained by the U.S. Department of Transportation, Docket Management Facility, West Building, Ground Floor, Room W12-140, 1200 New Jersey Avenue SE, Washington, DC 20590. Comments on the DEIS may be submitted to this address and must include the docket number for this project, which is MARAD-2019-0093. The Federal Docket Management Facility's telephone number is 202-366-9317 or 202-366-9826, the fax number is 202-493-2251. Comments are due to the Federal Docket Management Facility by 45 days after EPA publishes the notice of availability of the Draft Environmental Impact Statement for the GulfLink Deepwater Port License Application MARAD-2019-0093 in the Federal Register.

We encourage you to submit comments electronically through the Federal eRulemaking Portal at http://www.regulations.gov. If you submit your comments electronically, it is not necessary to also submit a hard copy by mail. If you cannot submit material using http://www.regulations.gov, please contact either Mr. Patrick W. Clark, USCG, or Dr. Linden Houston, MARAD, as listed in the following FOR FURTHER INFORMATION CONTACT section of this document below. Additionally, if you go to the online docket and sign up for email alerts, you will be notified when comments are posted.

FOR FURTHER INFORMATION CONTACT: Mr. Patrick W. Clark, Project Manager, USCG, telephone: 202-372-1358, email: Patrick.W.Clark@uscg.mil; or Dr. Linden Houston, Transportation Specialist, Office of Deepwater Port Licensing and Port Conveyance, MARAD, telephone: 202-366-4839, email: Linden.Houston@dot.gov.

SUPPLEMENTARY INFORMATION: A Notice of Application that summarized the GulfLink deepwater port license application was published in the Federal Register on June 26, 2019 (84 FR 30298-30300). A Notice of Intent to Prepare an Environmental Impact Statement (EIS) and Notice of Public Meetings was published in the Federal Register on July 3, 2019 (84 FR 32008-32010). A Notice of Availability; Notice of Virtual Public Meetings; Request for Comments for the GulfLink deepwater port license application was published in the Federal Register on November 27, 2020 (85 FR 76157-76159). This Notice of Availability incorporates the aforementioned Federal Register Notices by reference. The application describes a project that would include pipelines and a crude oil storage terminal located onshore in Brazoria County, Texas, and an offshore pipeline leading to a deepwater port located approximately 26.6 nautical miles off the coast of Brazoria County, Texas.

Publication of this notice announces a 45-day comment period, requests public participation in the environmental impact review process, provides information on how to participate in the environmental impact review process, and announces the informational open house and public meeting that will take place virtually.

This Federal Register Notice is being published to reissue the DEIS that was published in the Federal Register on November 27, 2020 (85 FR 76157-76158). Spanish language translation and interpretation services will be available during the virtual informational open house and public meeting, but it is requested that you advise MARAD and the USCG accordingly when registering to participate as noted in the Registration section of this Notice.

Request for Comments

We request public comments or other relevant information related to the DEIS for the proposed GulfLink deepwater port. These comments will inform our preparation of the FEIS. We encourage participation in the virtual public meeting; however, you may submit comments electronically, and it is preferred that comments be submitted electronically to the Federal Docket Management Facility website (http://www.regulations.gov). If you are unable to submit electronic comments, please contact either Mr. Patrick Clark, USCG, or Dr. Linden Houston, MARAD as listed in the FOR FURTHER INFORMATION CONTACT section. Regardless of the method you use to submit comments or material, all submissions will be posted, without change, to the Federal Docket Management Facility website (http://www.regulations.gov), and will include any personal information you provide. Therefore, submitting this information makes it public. You may wish to read the Privacy and Use Notice that is available on the www.regulations.gov website, and the Department of Transportation (DOT) Privacy Act Notice that appeared in the Federal Register on April 11, 2000 (65 FR 19477), see PRIVACY ACT. You may view docket submissions at the DOT Docket Management Facility or electronically at the www.regulations.gov website.

Virtual Public Meeting and Open House

You are invited to learn about the proposed GulfLink deepwater port at the virtual informational open house and to comment on the proposed action and the environmental impact analysis contained in the DEIS during the virtual public meeting.

The virtual informational open house website (http://TexasGulfLinkDWP_EIS.consultation.ai) will be available throughout the public comment period for the Final Environmental Impact Statement (FEIS), which will end 45 days after the FEIS Notice of Availability for the Gulflink Deepwater Port License Application is published in the Federal Register.

The website includes information about the project, including the DEIS, presented in a virtual open house format. The project docket, located online at www.regulations.gov (docket number MARAD-2019-0093) will be available for viewing during the DEIS public comment period as well as after the end of the DEIS public comment period.

The public meeting will be a virtual event hosted on the Zoom platform. The virtual public meeting will be recorded and transcribed for placement in the public docket for the GulfLink project. The Zoom program can be accessed online by visiting the Zoom website at www.zoom.us. Meeting details, such as the virtual room number and access code, will be provided after registration. See the Registration section of this Notice for details.

Registration

Interested parties must register to speak during the virtual public meeting as well as to attend the meeting. You may register at http://TexasGulfLinkDWP_EIS.consultation.ai or obtain help registering by contacting AECOM toll free at 833-588-1191.

Public meetings are intended to be accessible to all participants. Individuals who require special assistance such as sign language services, Spanish language interpreters or other reasonable accommodation, please indicate your special assistance need when registering either at http://TexasGulfLinkDWP_EIS.consultation.ai or toll free at 833-588-1191. Requests for special assistance must be made at least five business days in advance of the virtual public meeting. It is requested that you advise AECOM of any language needs (such as interpretation) when registering. Please include contact information as well as information about your specific needs. Those requiring special assistance such as sign language services, Spanish language interpreters, or other reasonable accommodations will need to attend the virtual meeting via a computer, tablet, telephone, or smart phone for these services to be accessible. Instructions for accessing the meeting will be sent to all registrants via email or will be provided by AECOM by registrants calling the toll-free number.

Meeting Procedure

Registered speakers will be recognized in the following order: elected officials, public agency representatives, then individuals or groups in the order in which they registered. In order to accommodate all speakers, speaker time may be limited, meeting hours may be extended, or both. Speakers' transcribed remarks will be included in the public docket. You may also submit written material for inclusion in the public docket. Written material must include the author's name. We ask attendees to respect the meeting procedures to ensure a constructive information-gathering session. The presiding officer will use his/her discretion to conduct the meeting in an orderly manner.

Background

On January 31, 2019, MARAD and USCG received a license application from GulfLink for all Federal authorizations required for a license to construct, own, and operate a deepwater port for the export of crude oil. The proposed deepwater port would be located in Federal waters approximately 26.6 nautical miles off the coast of Brazoria County, Texas. Texas was designated as the Adjacent Coastal State (ACS) for the GulfLink license application.

The Federal agencies involved held a public scoping meeting in connection with the GulfLink license application. The public scoping meeting was held in Lake Jackson, Texas on March 20, 2019. The transcript of the scoping meeting is included in the public docket located at www.regulations.gov under docket number MARAD-2019-0093.

MARAD and USCG issued a regulatory “stop-clock” letter to GulfLink for its application on May 31, 2019, which remained in effect until October 23, 2019, when MARAD, in consultation with the USCG, determined the agencies received sufficient information to continue the Federal review process. A second “stop clock letter” was issued to GulfLink on September 15, 2020 for additional information requests and remained in effect until November 30, 2020.

On December 16, 2020 and December 17, 2020, MARAD and USCG held virtual DEIS public meetings for the GulfLink deepwater port license application. During the December 16, 2020 public meeting, the public requested Spanish language assistance. MARAD and the USCG provided limited Spanish language translation at the December 17, 2020 meeting.

After thorough review and consultation with the USCG, MARAD found that the affected environmental justice communities and Limited English Proficient persons had not been provided sufficient and adequate opportunity to fully participate in the complete scope of the application and environmental review process for the GulfLink Deepwater Port License application. Therefore, MARAD and USCG are re-opening the public comment period for the DEIS for an additional 45 days and hosting this virtual public meeting to provide affected communities, including Limited English Proficient persons, further opportunity to review and comment on the DEIS. This Federal Register Notice reissues the DEIS that was published in the Federal Register on November 27, 2020 (85 FR 76157-76158).

The purpose of the DEIS is to analyze reasonable alternatives to, and the direct, indirect, and cumulative environmental impacts of, the proposed action. The DEIS is currently available for public review at the Federal docket website: www.regulations.gov under docket number MARAD-2019-0093.

Summary of the License Application

GulfLink is proposing to construct, own, and operate a deepwater port terminal in the Gulf of Mexico to export domestically produced crude oil. Use of the deepwater port would include the loading of various grades of crude oil at flow rates of up to 85,000 barrels per hour (bph). The GulfLink deepwater port would allow for up to two Very Large Crude Carriers (VLCCs) or other crude oil carriers to moor at single point mooring (SPM) buoys and connect with the deepwater port via floating connecting crude oil hoses. The maximum frequency of loading VLCCs or other crude oil carriers would be 1.1 million barrels per day, 365 days per year.

The overall project would consist of offshore and marine components as well as onshore components as described below.

The GulfLink deepwater port offshore and marine components would consist of the following:

• An Offshore Platform: One fixed offshore platform with piles in Outer Continental Shelf Galveston Area Lease Block GA-423, approximately 26.6 nautical miles off the coast of Brazoria County, Texas in a water depth of approximately 104 feet. The fixed offshore platform would have four decks comprising of personal living space, pipeline metering, a surge system, a pig receiving station, generators, lease automatic custody transfer unit, oil displacement prover loop, sample system, radar tower, electrical and instrumentation building, portal cranes, a hydraulic crane, an Operations/Traffic Room, and helicopter deck.

• One 42-inch outside diameter, 28.1-nautical-mile long crude oil pipeline would be constructed from the shoreline crossing in Brazoria County, Texas, to the GulfLink deepwater port for crude oil delivery. This pipeline would connect the proposed onshore Gulflink Jones Creek Terminal described below to the offshore GulfLink deepwater port.

• The fixed offshore platform is connected to VLCC tankers for loading by two separate 42-inch diameter departing pipelines. Each pipeline will depart the fixed offshore platform, carrying the crude oil to a Pipeline End Manifold (PLEM) in approximately 104 feet water depth located 1.25 nautical miles from the fixed offshore platform. Each PLEM is then connected through two 24-inch hoses to a Single Point Mooring (SPM) Buoy. Two 24-inch floating loading hoses will connect the SPM Buoy to the VLCC or other crude oil carrier. SPM Buoy 1 is in Outer Continental Shelf Galveston Area Lease Block GA-423 and SPM Buoy 2 is in Outer Continental Shelf Galveston Area Lease Block GA-A36.

The GulfLink deepwater port onshore storage and supply components would consist of the following:

• An Onshore Storage Terminal: The proposed Gulflink Jones Creek Terminal would be located in Brazoria County, Texas, on approximately 262 acres of land, consisting of eight above ground storage tanks, each with a working storage capacity of 708,168 barrels, for a total onshore storage capacity of approximately 6 million barrels. The facility can accommodate four additional tanks, bringing the total to twelve tanks or 8.0 million barrels of shell capacity.

• The Gulflink Jones Creek Terminal also would include: Six electric-driven mainline crude oil pumps; three electric driven booster crude oil pumps; one crude oil pipeline pig launcher; one crude oil pipeline pig receiver; two measurement skids for measuring incoming crude oil—one skid located on the Department of Energy's Bryan Mound facility, and one skid installed for the outgoing crude oil barrels leaving the tank storage to be loaded on the VLCC; and ancillary facilities to include an operations control center, electrical substation, offices, and warehouse building.

• Two onshore crude oil pipelines would be constructed onshore to support the GulfLink deepwater port and include the following items:

○ One proposed incoming 9.7 statute mile 36-inch outside diameter pipeline connected to a leased 40-inch ExxonMobil pipeline originating at the Department of Energy's Bryan Mound facility with connectivity to the Houston market.

○ One proposed outgoing 12.7 statute mile 42-inch outside diameter connection from the Gulflink Jones Creek Terminal to the shore crossing where this becomes the pipeline supplying the proposed offshore GulfLink deepwater port.

Additional information regarding the proposed Texas GulfLink Deepwater Port License Application can be found in the public docket located at www.regulations.gov under docket number MARAD-2019-0093.

Privacy Act

Regardless of the method used for submitting comments or materials, all submissions will be posted, without change, to www.regulations.gov and will include any personal information you provide. Therefore, submitting this information to the docket makes it public. You may wish to read the Privacy and Security Notice, as well as the User Notice, that is available on the www.regulations.gov website. The Privacy Act notice regarding the Federal Docket Management System is available in the March 24, 2005, issue of the Federal Register (70 FR 15086).

(Authority: 33 U.S.C. 1501 et seq., 49 CFR 1.93(h)).

By Order of the Acting Maritime Administrator.
T. Mitchell Hudson, Jr.,
Secretary, Maritime Administration.

[FR Doc. 2021-20284 Filed 9-23-21; 8:45 am]

BILLING CODE 4910-81-P